DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Arapahoe (FEMA Docket No.: B-2008) | City of Aurora (19-08-0550P). | The Honorable Bob LeGare, Mayor, City of Aurora, 15151 East Alameda Parkway, Aurora, CO 80012. | Engineering Department, 15151 East Alameda Parkway, Aurora, CO 80012. | May 1, 2020 | 080002
Arapahoe (FEMA Docket No.: B-2008) | City of Centennial (19-08-0550P). | The Honorable Stephanie Piko, Mayor, City of Centennial, 13133 East Arapahoe Road, Centennial, CO 80112. | Southeast Metro Stormwater Authority, 76 Inverness Drive East, Suite A, Englewood, CO 80112. | May 1, 2020 | 080315
Arapahoe (FEMA Docket No.: B-2008) | Unincorporated areas of Arapahoe County (19-08-0550P). | The Honorable Jeff Baker, Chairman, Arapahoe County Board of Commissioners, 5334 South Prince Street, Littleton, CO 80120. | Arapahoe County Public Works and Development Department, 6924 South Lima Street, Centennial, CO 80112. | May 1, 2020 | 080011
Douglas (FEMA Docket No.: B-2006) | Unincorporated areas of Douglas County (19-08-0647P). | The Honorable Roger A. Partridge, Chairman, Douglas County Board of Commissioners, 100 3rd Street, Castle Rock, CO 80104. | Douglas County Department of Public Works, Engineering Division, 100 3rd Street, Castle Rock, CO 80104. | May 1, 2020 | 080049
El Paso (FEMA Docket No.: B-2016) | City of Colorado Springs (19-08-0605P). | The Honorable John Suthers, Mayor, City of Colorado Springs, 30 South Nevada Avenue, Suite 601, Colorado Springs, CO 80903. | Pikes Peak Regional Development Center, 2880 International Circle, Colorado Springs, CO 80910. | May 4, 2020 | 080060
El Paso (FEMA Docket No.: B-2016) | Unincorporated areas of El Paso County (19-08-0605P). | The Honorable Mark Waller, President, El Paso County Board of Commissioners, 200 South Cascade Avenue, Suite 100, Colorado Springs, CO 80903. | Pikes Peak Regional Development Center, 2880 International Circle, Colorado Springs, CO 80910. | May 4, 2020 | 080059
Connecticut: Fairfield (FEMA Docket No.: B-2016). | Town of Darien (19-01-1081P). | The Honorable Jayme J. Stevenson, First Selectman, Town of Darien Board of Selectmen, 2 Renshaw Road, Room 202, Darien, CT 06820. | Planning and Zoning Department, 2 Renshaw Road, Darien, CT 06820. | May 1, 2020 | 090005
Florida:
Gilchrist (FEMA Docket No.: B-2006) | Unincorporated areas of Gilchrist County (19-04-4501P). | The Honorable Todd Gray, Chairman, Gilchrist County Board of Commissioners, 3400 Southwest 22nd Place, Bell, FL 32619. | Gilchrist County Building and Zoning Department, 209 Southeast 1st Street, Trenton, FL 32693. | Apr. 17, 2020 | 120094
Indian River (FEMA Docket No.: B-2006) | City of Sebastian (19-04-6686P). | The Honorable Jim Hill, Mayor, City of Sebastian, 1225 Main Street, Sebastian, FL 32958. | Community Development Department, 1225 Main Street, Sebastian, FL 32958. | Apr. 17, 2020 | 120123
Monroe (FEMA Docket No.: B-2008) | Unincorporated areas of Monroe County (20-04-0041P). | The Honorable Heather Carruthers, Mayor, Monroe County Board of Commissioners, 500 Whitehead Street, Suite 102, Key West, FL 33040. | Monroe County Building Department, 2798 Overseas Highway, Suite 300, Marathon, FL 33050. | Apr. 27, 2020 | 125129
Monroe (FEMA Docket No.: B-2008) | Unincorporated areas of Monroe County (20-04-0057P). | The Honorable Heather Carruthers, Mayor, Monroe County Board of Commissioners, 500 Whitehead Street, Suite 102, Key West, FL 33040. | Monroe County Building Department, 2798 Overseas Highway, Suite 300, Marathon, FL 33050. | Apr. 28, 2020 | 125129
Polk (FEMA Docket No.: B-2006) | Unincorporated areas of Polk County (19-04-3814P). | The Honorable George Lindsey III, Chairman, Polk County Board of Commissioners, P.O. Box 9005, Drawer BC01, Bartow, FL 33831. | Polk County Land Development Division, 330 West Church Street, Bartow, FL 33830. | Apr. 23, 2020 | 120621
Sarasota (FEMA Docket No.: B-2006) | Unincorporated areas of Sarasota County (20-04-0229P). | The Honorable Charles D. Hines, Chairman, Sarasota County Board of Commissioners, 1660 Ringling Boulevard, Sarasota, FL 34236. | Sarasota County Planning and Development Services Department, 1001 Sarasota Center Boulevard, Sarasota, FL 34240. | Apr. 27, 2020 | 125144
Seminole (FEMA Docket No.: B-2006) | City of Sanford (19-04-1942P). | The Honorable Jeff Triplett, Mayor, City of Sanford, 300 North Park Avenue, Sanford, FL 32772. | City Hall, 300 North Park Avenue, Sanford, FL 32772. | Apr. 17, 2020 | 120294
Seminole (FEMA Docket No.: B-2006) | Unincorporated areas of Seminole County, (19-04-1942P). | The Honorable Brenda Carey, Chair, Seminole County Board of Commissioners, 1101 East 1st Street, Sanford, FL 32771. | Seminole County Development Review Division, 1101 East 1st Street, Sanford, FL 32771. | Apr. 17, 2020 | 120289
Kentucky:
Fayette (FEMA Docket No.: B-2016) | Lexington-Fayette Urban County, Government (19-04-4057P). | The Honorable Linda Gorton, Mayor, Lexington-Fayette Urban County, Government, 200 East Main Street, Lexington, KY 40507. | Lexington-Fayette Urban County Government Center, 101 East Vine Street, Lexington, KY 40507. | Apr. 16, 2020 | 210067
Pulaski (FEMA Docket No.: B-2016) | Unincorporated areas of Pulaski County (19-04-3595P). | The Honorable Steve Kelley, Pulaski County Judge, 100 North Main Street, Suite 202, Somerset, KY 42501. | Pulaski County Courthouse, 100 North Main Street, Somerset, KY 42501. | Apr. 17, 2020 | 210197
Louisiana: St. Tammany (FEMA Docket, No.: B-2008) | Unincorporated areas of St. Tammany Parish (19-06-0185P). | Mr. Michael B. Cooper, St. Tammany Parish President, 21490 Koop Drive, Mandeville, LA 70471. | St. Tammany Parish Department of Inspections and Enforcement, 21454 Koop Drive, Mandeville, LA 70471. | Apr. 16, 2020 | 225205
Massachusetts: Essex (FEMA Docket No.: B-2006) | Town of Andover (19-01-0700P). | Mr. Andrew P. Flanagan, Town of Andover Manager, 36 Bartlet Street, Andover, MA 01810. | Town Hall, 36 Bartlet Street, Andover, MA 01810. | May 1, 2020 | 250076
North Carolina:
Durham (FEMA Docket No.: B-2008) | City of Durham (19-04-5407P). | The Honorable Steve Schewel, Mayor, City of Durham, 101 City Hall Plaza, Durham, NC 27701. | City-County Hall, 101 City Hall Plaza, Durham, NC 27701. | May 13, 2020 | 370086
Durham (FEMA Docket No.: B-2008) | Unincorporated Areas of Durham County (19-04-5407P). | The Honorable Wendy Jacobs, Chair, Durham County Board of Commissioners, 200 East Main Street, Durham, NC 27701. | City-County Hall, 101 City Hall Plaza, Durham, NC 27701. | May 13, 2020 | 370085
Wake (FEMA Docket No.: B-2023) | Town of Cary (19-04-3102P). | The Honorable Harold Weinbrecht, Mayor, P.O. Box 8005, Cary, NC 27512. | Stormwater Services Division, 316 North Academy Street, Cary, NC 27513. | April 15, 2020 | 370238
Wake (FEMA Docket No.: B-2023) | Town of Morrisville (19-04-3102P). | The Honorable TJ Cawley, Mayor, 100 Town Hall Drive, Morrisville, NC 27560. | Planning Department, 260 Town Hall Drive, Suite B, Morrisville, NC 27560. | April 15, 2020 | 370242
South Carolina:
Charleston (FEMA Docket No.: B-2008) | City of Isle of Palms (19-04-6832P). | Ms. Desiree Fragoso, City of Isle of Palms Administrator, 1207 Palm Boulevard, Isle of Palms, SC 29451. | Building and Planning Department, 1207 Palm Boulevard, Isle of Palms, SC 29451. | May 4, 2020 | 455416
Georgetown (FEMA Docket No.: B-2008) | Unincorporated areas of Georgetown County (19-04-6806P). | Mr. Sel Hemingway, Georgetown County Administrator, 716 Prince Street, Georgetown, SC 29440. | Georgetown County Building Department, 129 Screven Street, Georgetown, SC 29440. | Apr. 30, 2020 | 450085
Tennessee: Shelby (FEMA Docket No.: B-2023) | Unincorporated areas of Shelby County (18-04-7494P). | The Honorable Lee Harris, Mayor, Shelby County, 160 North Main Street, Memphis, TN 38103. | Shelby County Department of Engineering, 6463 Haley Road, Memphis, TN 38134. | May 8, 2020 | 470214
Texas:
Bastrop (FEMA Docket No.: B-2006) | City of Bastrop, (19-06-1419P). | The Honorable Connie Schroeder, Mayor, City of Bastrop, P.O. Box 427, Bastrop, TX 78602. | City Hall, 1311 Chestnut Street, Bastrop, TX 78602. | Apr. 17, 2020 | 480022
Bastrop (FEMA Docket No.: B-2006) | Unincorporated areas of Bastrop County (19-06-1419P). | The Honorable Paul Pape, Bastrop County Judge, 804 Pecan Street, Bastrop, TX 78602. | Bastrop County Engineering and Development Department, 211 Jackson Street, Bastrop, TX 78602. | Apr. 17, 2020 | 481193
Bexar (FEMA Docket No.: B-2008) | City of Live Oak (19-06-2060P). | The Honorable Mary M. Dennis, Mayor, City of Live Oak, 8001 Shin Oak Drive, Live Oak, TX 78233. | Public Works Department, 8001 Shin Oak Drive, Live Oak, TX 78233. | Apr. 20, 2020 | 480043
Bexar (FEMA Docket No.: B-2008) | City of San Antonio (18-06-1183P). | The Honorable Ron Nirenberg, Mayor, City of San Antonio, P.O. Box 839966, San Antonio, TX 78283. | Transportation and Capital Improvements Department, Storm Water Division, 114 West Commerce Street, 7th Floor, San Antonio, TX 78205. | Apr. 20, 2020 | 480045
Bexar (FEMA Docket No.: B-2016) | City of San Antonio (19-06-1775P). | The Honorable Ron Nirenberg, Mayor, City of San Antonio, P.O. Box 839966, San Antonio, TX 78283. | Transportation and Capitol Improvements Department, Storm Water Division, 114 West Commerce Street, 7th Floor, San Antonio, TX 78205. | May 11, 2020 | 480045
Collin (FEMA Docket No.: B-2008) | City of Allen (19-06-3850P). | The Honorable Stephen Terrell, Mayor, City of Allen, 305 Century Parkway, 1st Floor, Allen, TX 75013. | Engineering and Traffic Department, 305 Century Parkway, Allen, TX 75013. | May 8, 2020 | 480131
Harris (FEMA Docket No.: B-2008) | Unincorporated areas of Harris County (19-06-1115P). | The Honorable Lina Hidalgo, Harris County Judge, 1001 Preston Street, Suite 911, Houston, TX 77002. | Harris County Engineering Department, 1001 Preston Street, 7th Floor, Houston, TX 77002. | Apr. 27, 2020 | 480287
Tarrant (FEMA Docket No.: B-2006) | City of Benbrook (19-06-3260P). | The Honorable Jerry B. Dittrich, Mayor, City of Benbrook, 911 Winscott Road, Benbrook, TX 76126. | City Hall, 911 Winscott Road, Benbrook, TX 76126. | Apr. 24, 2020 | 480586
Tarrant (FEMA Docket No.: B-2006) | City of Fort Worth, (19-06-3260P). | The Honorable Betsy Price, Mayor, City of Fort Worth, 200 Texas Street, Fort Worth, TX 76102. | Transportation and Public Works Department, 200 Texas Street, Fort Worth, TX 76102. | Apr. 24, 2020 | 480596
Tarrant (FEMA Docket, No.: B-2008) | City of Keller (19-06-3734P). | The Honorable Pat McGrail, Mayor, City of Keller, P.O. Box 770, Keller, TX 76244. | City Hall, 1100 Bear Creek Parkway, Keller, TX 76248. | Apr. 16, 2020 | 480602
Tarrant (FEMA Docket No.: B-2006) | City of Southlake (19-06-1227P). | The Honorable Laura Hill, Mayor, City of Southlake, 1400 Main Street, Suite 270, Southlake, TX 76092. | Public Works Department, 1400 Main Street, Southlake, TX 76092. | Apr. 27, 2020 | 480612
Waller (FEMA Docket No.: B-2008) | Unincorporated areas of Waller County (19-06-1115P). | The Honorable Carbett “Trey” J. Duhon, III, Waller County Judge, 836 Austin Street, Suite 203, Hempstead, TX 77445. | Waller County Engineering Department, 775 Business Highway 290 East, Hempstead, TX 77445. | Apr. 27, 2020 | 480640

[FR Doc. 2020-12487 Filed 6-8-20; 8:45 am]

BILLING CODE 9110-12-P